ENVIRONMENTAL PROTECTION AGENCY

[ER-FR-9040-4]

Environmental Impact Statements; Notice of Availability

Responsible Agency: Office of Federal Activities, General Information (202) 564-7156 or https://www2.epa.gov/nepa/.

Weekly receipt of Environmental Impact Statements, Filed 07/09/2018 Through 07/13/2018, Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180156, Final, USFS, OR, Lobert Restoration Project, Review Period Ends: 08/20/2018, Contact: William Conroy 541-783-4039.

EIS No. 20180158, Final, HHS, OH, Final Environmental Impact Statement for Site Acquisition and Campus Consolidation for NIOSH, Review Period Ends: 08/20/2018, Contact: Harry Marsh 770-488-8170.

EIS No. 20180160, Final, BLM, UT, Alton Coal Tract Lease by Application, Review Period Ends: 08/20/2018, Contact: Keith Rigtrup 435-865-3063.

EIS No. 20180161, Final Supplement, USFS, MT, Rock Creek Mine Project, Review Period Ends: 08/23/2018, Contact: Katelyn Miller 406-293-6211.

EIS No. 20180162, Final, USACE, CO, Northern Integrated Supply Project, Review Period Ends: 09/04/2018, Contact: John E. Urbanic 303-979-4120.

EIS No. 20180163, Draft, USFWS, CA, Green Diamond Forest Habitat Conservation Plan, Comment Period Ends: 09/04/2018, Contact: Dan Cox 916-414-6539.

EIS No. 20180164, Final, USFS, CA, Exchequer Restoration Project, Review Period Ends: 08/20/2018, Contact: Elaine Locke 559-855-5355.

Amended Notice

Revision to the Federal Register Notice published 06/01/2018, extend comment period from 07/16/2018 to 07/31/2018, EIS No. 20180113, Draft, DHS, ID, Bog Creek Road Project, Contact: Paul Enriquez, 949-643-6365.

Dated: July 17, 2018.
Robert Tomiak,
Director, Office of Federal Activities.

[FR Doc. 2018-15514 Filed 7-19-18; 8:45 am]

BILLING CODE 6560-50-P